DEPARTMENT OF HOMELAND SECURITY

[Docket No. DHS-2009-0101]

The National Infrastructure Advisory Council

AGENCY: Directorate for National Protection and Programs, Department of Homeland Security.

ACTION: Committee Management; Notice of Federal Advisory Council meeting.

SUMMARY: The National Infrastructure Advisory Council (NIAC) will meet on Tuesday, October 13, 2009, at the Park Hyatt's Park Ballroom, 24th and M Street, NW., Washington, DC 20037.

DATES: The National Infrastructure Advisory Council will meet Tuesday, October 13, 2009, from 1:30 p.m. to 4:30 p.m. Please note that the meeting may close early if the committee has completed its business.

For additional information, please consult the NIAC Web site, http://www.dhs.gov/niac, or contact Matthew Sickbert by phone at 703-235-2888 or by e-mail at Matthew.Sickbert@associates.dhs.gov.

ADDRESSES: The meeting will be held at the Park Hyatt's Park Ballroom, 24th and M Street, NW., Washington, DC 20037. While we will be unable to accommodate oral comments from the public, written comments may be sent to Nancy J. Wong, Department of Homeland Security, National Protection and Programs Directorate, Washington, DC 20528. Written comments should reach the contact person listed no later than September 29, 2009. Comments must be identified by DHS-2009-0101 and may be submitted by one of the following methods:

• Federal eRulemaking Portal: http://www.regulations.gov. Follow the instructions for submitting comments.

• E-mail: matthew.sickbert@associates.dhs.gov. Include the docket number in the subject line of the message.

• Fax: 703-235-3055.

• Mail: Nancy J. Wong, Department of Homeland Security, National Protection and Programs Directorate, Washington, DC 20528.

Instructions: All submissions received must include the words “Department of Homeland Security” and the docket number for this action. Comments received will be posted without alteration at www.regulations.gov, including any personal information provided.

Docket: For access to the docket to read background documents or comments received by the National Infrastructure Advisory Council, go to http://www.regulations.gov.

FOR FURTHER INFORMATION CONTACT: Nancy J. Wong, NIAC Designated Federal Officer, Department of Homeland Security, Washington, DC 20528; telephone 703-235-2888.

SUPPLEMENTARY INFORMATION: Notice of this meeting is given under the Federal Advisory Committee Act, 5 U.S.C. App. (Pub. L. 92-463). The National Infrastructure Advisory Council shall provide the President through the Secretary of Homeland Security with advice on the security of the critical infrastructure sectors and their information systems.

The National Infrastructure Advisory Council will meet to address issues relevant to the protection of critical infrastructure as directed by the President. The October 13, 2009 meeting will include a final report from the Frameworks for Dealing with Disasters and Related Interdependencies Working Group and a status reports from the Critical Infrastructure Resilience Working Group.

The meeting agenda is as follows:

I. Opening of Meeting.

II. Roll Call of Members.

III. Opening Remarks and Introductions.

IV. Approval of September 2009 Minutes.

V. New Business.

VI. Closing Remarks.

VII. Adjournment.

Procedural

While this meeting is open to the public, participation in The National Infrastructure Advisory Council deliberations is limited to committee members, Department of Homeland Security officials, and persons invited to attend the meeting for special presentations.

Information on Services for Individuals With Disabilities

For information on facilities or services for individuals with disabilities or to request special assistance at the meeting, contact the NIAC Secretariat at 703-235-2888 as soon as possible.

Signed: September 21, 2009.
Nancy J. Wong,
Designated Federal Officer for the NIAC.

[FR Doc. E9-23230 Filed 9-24-09; 8:45 am]

BILLING CODE P